DEPARTMENT OF DEFENSE

Office of the Secretary of Defense

Termination of Department of Defense Federal Advisory Committees

AGENCY: DoD.

ACTION: Notice.

SUMMARY: Under the provisions of the Federal Advisory Committee Act of 1972, as amended (5 U.S.C. Appendix), the Department of Defense gives notice that the DoD Advisory Committee on Military Compensation, was terminated effective July 11, 2006.

This committee has concluded their objectives and provided necessary and valuable independent advice to the Government's decision makers.

FOR FURTHER INFORMATION CONTACT: Frank Wilson, DoD Committee Management Officer, 703-601-2554.

Dated: June 20, 2006.
L.M. Bynum,
OSD Federal Register Liaison Officer, Department of Defense.

[FR Doc. 06-6479 Filed 7-25-06; 8:45 am]

BILLING CODE 5001-06-M